DEPARTMENT OF TRANSPORTATION

Federal Highway Administration

Rescission of Revised Record of Decision

AGENCY: Federal Highway Administration (FHWA), DOT.

ACTION: Notice of rescission of Revised Record of Decision (ROD).

SUMMARY: The FHWA is issuing this notice to advise the public that the April 22, 2013, Revised ROD for the proposed Sakonnet River Bridge, Rehabilitation or Replacement in the Towns of Portsmouth and Tiverton, Newport County, Rhode Island is rescinded effective with this notice and replaced with the August 2003 original ROD signed by FHWA.

FOR FURTHER INFORMATION CONTACT: Mr. Carlos E. Padilla-Fresse, Program Delivery Supervisor, Federal Highway Administration Rhode Island Division, 380 Westminster Mall, Suite 601, Providence, Rhode Island 02903, (401) 528-4577, Carlos.Padilla@dot.gov. Office hours are from 8:00 a.m. to 4:30 p.m. (Eastern Time), Monday through Friday, except Federal holidays.

SUPPLEMENTARY INFORMATION: The FHWA, as the lead Federal agency, in cooperation with the Rhode Island Department of Transportation (RIDOT), is rescinding the April 22, 2013, Revised ROD for the proposed Sakonnet River Bridge, Rehabilitation or Replacement in the Towns of Portsmouth and Tiverton, Newport County, Rhode Island. The FHWA is rescinding the 2013 Revised ROD, per the Rhode Island Department of Transportation (RIDOT) request. Rescinding the 2013 Revised ROD will invalidate the actions taken pertaining to the implementation of tolling on the Sakonnet River Bridge.

Any future Federal-aid action within the Sakonnet River Bridge must comply with environmental review requirements of the National Environmental Policy Act (NEPA) (42 U.S.C. 4321), FHWA NEPA implementing regulations (23 CFR 771) and related authorities, as appropriate. Comments and questions concerning this action should be directed to FHWA at the address provided above.

Issued on: May 15, 2019.
Carlos C. Machado,
FHWA Rhode Island Division Administrator, Providence, Rhode Island.

[FR Doc. 2019-10594 Filed 5-20-19; 8:45 am]

BILLING CODE 4910-RY-P